DEPARTMENT OF TRANSPORTATION

Pipeline and Hazardous Materials Safety Administration

Hazardous Materials: Notice of Applications for Modification to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein.

DATES: Comments must be received on or before August 25, 2023.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC or at http://regulations.gov.

This notice of receipt of applications for special permit is published in accordance with part 107 of the Federal hazardous materials transportation law (49 U.S.C. 5117(b); 49 CFR 1.53(b)).

Issued in Washington, DC, on July 28, 2023.
Donald P. Burger,
Chief, General Approvals and Permits Branch.

Special Permits Data
Application No. | Applicant | Regulation(s) affected | Nature of the special permits thereof
12135-M | Daicel Safety Systems Inc | 173.301(a)(1), 173.302a, 178.65(c)(3) | To modify the special permit to authorize the use of the cylinders up to 15 years after the date of manufacture. (modes 1, 2, 3, 4).
13102-M | Siemens Large Drives LLC | 173.306(a), 173.306(a)(1), 173.322, 173.150(b), 173.222(c) | To change Siemens Large Drives LLC company name to Innomotics LLC. (modes 1, 2, 4).
13211-M | Copperhead Chemical Company, Inc | 172.102(c)(5) | To modify the package in paragraph 7 of the special permit to be 4GV/X11.3/S/**/USA/+CN1216, stock number UN111. (modes 1, 3, 4).
14152-M | Entegris, Inc | 173.27(f) | To modify the special permit to authorize an additional hazardous material. (modes 1, 3, 4).
14992-M | VIP Transport, Inc | 173.196(a), 173.196(b), 173.199, 178.609 | To modify the special permit to authorize smaller inner packagings. (mode 1).
15882-M | Ryan Air, Inc | 172.101, 173.27, 173.243 | To add a C-208 to carry bulk fuel in a 476-galon BATT Tank. (mode 4).
15999-M | Lockheed Martin Corporation | 172.300, 172.400, 173.1 | To modify the special permit to authorize an alternative transportation route. (modes 1, 3).
20352-M | Schlumberger Technology Corp | 173.301(f), 173.302(a), 173.304(a) | To modify the special permit to authorize an additional packaging. (modes 1, 2, 3, 4).
20796-M | Sodastream USA Inc | 172.400, 172.200, 172.300, 171.2(k), 172.700(a), 172.500 | To modify the special permit to authorize additional outer packagings. (modes 1, 2, 3).
20936-M | CO2 Exchange LLC | 171.2(k), 172.200, 172.300, 172.700(a), 172.400, 172.500 | To modify the special permit to authorize cylinders to be packaged within an outer fiberboard box with or without a dispensing machine. (modes 1, 2).
21290-M | Orion Engineered Carbons LLC | 171.23(a)(1), 171.23(b)(10), 173.314 | To modify the special permit to authorize an increase in the annual number of shipments. (modes 1, 3).
21297-M | Luxfer Canada Limited | 173.301(i), 178.75 | To modify the special permit to authorize mounting of a cylinder within a structural frame during transportation. (modes 1, 2, 3, 4).
21307-M | Packaging and Crating Technologies, LLC | 172.200, 172.300, 172.400, 172.700(a), 172.600, 172.500, 172.102(c)(1), 173.185(d) | To modify the special permit to authorize a higher Wh rating battery. (modes 1, 2).
21460-M | Amerex Corporation | 173.309(c) | To modify the special permit to authorize an additional extinguisher model.

[FR Doc. 2023-17097 Filed 8-9-23; 8:45 am]

BILLING CODE 4910-60-P